DEPARTMENT OF ENERGY

Federal Energy Regulatory Commission

Combined Notice of Filings No. 2

April 08, 2010.

Take notice that the Commission has received the following Natural Gas Pipeline Rate and Refund Report filings:

Docket Numbers: RP09-1027-003.

Applicants: White River Hub, LLC.

Description: White River Hub, LLC submits Substitute First Revised Sheet 242 et al to FERC Gas Tariff, Original Volume 1.

Filed Date: 04/06/2010.

Accession Number: 20100407-0201.

Comment Date: 5 p.m. Eastern Time on Monday, April 19, 2010.

Docket Numbers: RP09-1028-003.

Applicants: Questar Southern Trails Pipeline Company.

Description: Questar Southern Trails Pipeline Company submits Third Substitute Revised Sheet 130 et al to FERC Gas Tariff, Original Volume 1.

Filed Date: 04/06/2010.

Accession Number: 20100407-0203.

Comment Date: 5 p.m. Eastern Time on Monday, April 19, 2010.

Docket Numbers: RP09-1029-003.

Applicants: Questar Overthrust Pipeline Company.

Description: Questar Overthrust Pipeline Company submits Fifth Revised Sheet 1 et al to FERC Gas Tariff, Second Revised Volume 1.

Filed Date: 04/06/2010.

Accession Number: 20100407-0202.

Comment Date: 5 p.m. Eastern Time on Monday, April 19, 2010.

Docket Numbers: RP09-1030-003.

Applicants: Questar Pipeline Company.

Description: Questar Pipeline Company submits First Revised Sheet 72 et al to FERC Gas Tariff, First Revised Volume 1.

Filed Date: 04/06/2010.

Accession Number: 20100407-0204.

Comment Date: 5 p.m. Eastern Time on Monday, April 19, 2010.

Docket Numbers: RP10-468-001.

Applicants: CenterPoint Energy Gas Transmission Comp.

Description: CenterPoint Energy Gas Transmission Company submits Sixth Revised Sheet 729 et al to FERC Gas Tariff, Sixth Revised Volume 1.

Filed Date: 04/06/2010.

Accession Number: 20100407-0214.

Comment Date: 5 p.m. Eastern Time on Monday, April 19, 2010.

Docket Numbers: RP09-466-004.

Applicants: Kern River Gas Transmission Company.

Description: Kern River Gas Transmission Company submits Amendment to Credit Settlement Agreement.

Filed Date: 04/07/2010.

Accession Number: 20100407-5110.

Comment Date: 5 p.m. Eastern Time on Monday, April 19, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. 2010-9130 Filed 4-20-10; 8:45 am]

BILLING CODE 6717-01-P